ENVIRONMENTAL PROTECTION AGENCY

40 CFR Part 55

[EPA-R04-OAR-2023-0535; FRL-11589-01-R4]

Outer Continental Shelf Air Regulations; Consistency Update for North Carolina

AGENCY: Environmental Protection Agency.

ACTION: Proposed rule; consistency update.

SUMMARY: The Environmental Protection Agency (EPA) is proposing to update a portion of the Outer Continental Shelf (OCS) Air Regulations. Requirements applying to OCS sources located within 25 miles of States' seaward boundaries must be updated periodically to remain consistent with the requirements of the corresponding onshore area (COA), as mandated by section 328(a)(1) of the Clean Air Act (CAA). The portion of the OCS air regulations that is being updated pertains to the requirements for OCS sources for which North Carolina is the designated COA. North Carolina's requirements discussed in this document are proposed to be incorporated by reference into the Code of Federal Regulations and listed in the appendix to the OCS air regulations.

DATES: Written comments must be received on or before January 11, 2024.

ADDRESSES: Submit your comments, identified by Docket ID No. EPA-R04-OAR-2023-0535 at https://www.regulations.gov. Follow the online instructions for submitting comments. Once submitted, comments cannot be edited or removed from Regulations.gov. EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Kathleen Weil, Air Permits Section, Air Planning and Implementation Branch, Air and Radiation Division, U.S. Environmental Protection Agency, Region 4, 61 Forsyth Street SW, Atlanta, Georgia 30303-8960. The telephone number is (404) 562-9170. Ms. Weil can also be reached via electronic mail at weil.kathleen@epa.gov.

SUPPLEMENTARY INFORMATION:

I. Background

On September 4, 1992, EPA promulgated 40 CFR part 55, which established requirements to control air pollution from OCS sources in order to attain and maintain Federal and State ambient air quality standards and to comply with the provisions of part C of title I of the CAA. The regulations at 40 CFR part 55 apply to all OCS sources except those located in the Gulf of Mexico west of 87.5 degrees longitude. See 40 CFR 55.3(a). Section 328 of the CAA requires that for such sources located within 25 miles of a State's seaward boundary, the requirements shall be the same as would be applicable if the sources were located in the COA. Because the OCS requirements are based on onshore requirements, and onshore requirements may change, section 328(a)(1) requires that EPA update the OCS requirements as necessary to maintain consistency with onshore requirements.

Pursuant to 40 CFR 55.12, consistency reviews will occur: (1) At least annually where an OCS activity is occurring within 25 miles of a State seaward boundary; (2) upon receipt of a Notice of Intent (NOI) under 40 CFR 55.4; or (3) when a State or local agency submits a rule to EPA to be considered for incorporation by reference in 40 CFR part 55. This proposed action is being taken in preparation for a potential upcoming OCS project due to receipt of an NOI. Public comments received in writing within 30 days of publication of this document will be considered by EPA before publishing a final rule.

Section 328(a) of the CAA requires that EPA establish requirements to control air pollution from OCS sources located within 25 miles of States' seaward boundaries that are the same as onshore requirements. To comply with this statutory mandate, EPA must incorporate applicable onshore rules into 40 CFR part 55 as they exist onshore. This limits EPA's flexibility in deciding which requirements will be incorporated into 40 CFR part 55 and prevents EPA from making substantive changes to the requirements it incorporates. As a result, EPA may be incorporating rules into 40 CFR part 55 that do not conform to all of EPA's State Implementation Plan (SIP) guidance or certain requirements of the CAA. Consistency updates may result in the inclusion of State or local rules or regulations into 40 CFR part 55, even though the same rules may ultimately be disapproved for inclusion as part of the SIP. Inclusion in the OCS rule does not imply that a rule meets the requirements of the CAA for SIP approval, nor does it imply that the rule will be approved by EPA for inclusion in the SIP.

II. EPA Analysis

EPA reviewed North Carolina's rules for inclusion in 40 CFR part 55 to ensure that they are rationally related to the attainment or maintenance of Federal or State ambient air quality standards and compliance with part C of title I of the CAA, that they are not designed expressly to prevent exploration and development of the OCS, and that they are potentially applicable to OCS sources. See 40 CFR 55.1. EPA has also evaluated the rules to ensure they are not arbitrary or capricious. See 40 CFR 55.12(e). In addition, EPA has excluded administrative or procedural rules, and requirements that regulate toxics which are not related to the attainment and maintenance of Federal and State ambient air quality standards.¹

¹ Each COA which has been delegated the authority to implement and enforce 40 CFR part 55 will use its administrative and procedural rules as onshore. However, in those instances where EPA has not delegated authority to implement and enforce 40 CFR part 55, EPA will use its own administrative and procedural requirements to implement the substantive requirements. See 40 CFR 55.14(c)(4).

III. Proposed Action

EPA last did a consistency update for North Carolina on March 3, 2009 (74 FR 9166). In that action, EPA incorporated by reference into 40 CFR part 55 all North Carolina regulations that EPA believed were relevant to the OCS requirements. For this proposed action, EPA has reviewed changes that North Carolina has made to its underlying regulatory programs since the last consistency update. This proposed action will have no effect on any provisions that were not subject to changes by North Carolina and were also previously incorporated by reference into Part 55 through EPA's March 3, 2009, rulemaking. The rules that EPA proposes to incorporate are applicable provisions of the North Carolina Administrative Code (NCAC) and are listed in detail at the end of this Notice. The intended effect of proposing approval of the OCS requirements for the North Carolina Department of Environmental Quality (NCDEQ) is to regulate emissions from OCS sources in accordance with the requirements for onshore sources. EPA is soliciting public comments on the issues discussed in this document. These comments will be considered before taking final action.

IV. Incorporation by Reference

In this document, EPA is proposing to include in a final EPA rule regulatory text that includes incorporation by reference. In accordance with the requirements of 1 CFR 51.5, and as discussed in Sections II and III of this preamble, EPA is proposing to incorporate by reference the North Carolina rules set forth below. EPA has made, and will continue to make, these materials available through www.regulations.gov and at the EPA Region 4 Office (please contact the person identified in the FOR FURTHER INFORMATION CONTACT section of this preamble for more information).

V. Statutory and Executive Order Reviews

Under the Clean Air Act, the Administrator is required to establish requirements to control air pollution from OCS sources located within 25 miles of States' seaward boundaries that are the same as onshore air pollution control requirements. To comply with this statutory mandate, the EPA must incorporate applicable onshore rules into 40 CFR part 55 as they exist onshore. See 42 U.S.C. 7627(a)(1); 40 CFR 55.12. Thus, in promulgating OCS consistency updates, EPA's role is to maintain consistency between OCS regulations and the regulations of onshore areas, provided that they meet the criteria of the CAA. Accordingly, this proposed action simply proposes to update the existing OCS requirements that have been revised since the last consistency review to make them consistent with requirements onshore, without the exercise of any policy direction by EPA. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (PRA) (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the CAA.

Additionally, Executive Order 12898 (59 FR 7629, February 16, 1994) directs Federal agencies, to the greatest extent practicable and permitted by law, to make environmental justice part of their mission by identifying and addressing, as appropriate, disproportionately high and adverse human health or environmental effects of their programs, policies, and activities on minority populations (people of color and/or Indigenous peoples) and low-income populations.

EPA believes that this specific proposed action does not concern human health or environmental conditions and therefore cannot be evaluated with respect to potentially disproportionate and adverse effects on people of color, low-income populations and/or Indigenous peoples. This proposed action simply fulfills EPA's statutory mandate to ensure regulatory consistency between the COA and inner OCS consistent with the Stated objectives of CAA section 328(a)(1). Specifically, section 328(a)(1) requires EPA to establish requirements to control air pollution from OCS sources “to attain and maintain Federal and State ambient air quality standards and to comply with the provisions of part C of [title I of the CAA]” and, for inner OCS sources (located within 25 miles of the seaward boundary of such States), to establish requirements that are “the same as would be applicable if the source were located in the COA.” This section of the Act also States that “the Administrator shall update such requirements as necessary to maintain consistency with onshore regulations and this chapter.” As noted in the preamble, compliance with this requirement limits EPA's discretion in deciding what will be incorporated into 40 CFR part 55.

The State regulations relevant to the OCS that are proposed for incorporation into the CFR went through North Carolina's public rulemaking process, including public notice and comment. This proposed action seeks to incorporate into the CFR those State regulations, which are already effective onshore, to ensure regulatory consistency with the COA as mandated by CAA section 328(a)(1). This is a routine and ministerial consistency update that does not directly affect any human health or environmental conditions. In addition, EPA is providing for meaningful public involvement on this rule through the notice and comment process.

This proposed rule to incorporate by reference sections of the NCAC into the CFR does not apply on any Indian reservation land as defined in 18 U.S.C. 1151 or in any other area where EPA or an Indian tribe has demonstrated that a tribe has jurisdiction. In those areas of Indian country, this rule incorporating by reference sections of the NCAC does not have Tribal implications and will not impose substantial direct costs on Tribal governments or preempt Tribal law as specified by Executive Order 13175 (65 FR 67249, November 9, 2000).

This proposed action does not impose any new information collection burden under the PRA. The Office of Management and Budget (OMB) has previously approved the information collection activities contained in the existing regulations at 40 CFR part 55 and, by extension, this update to Part 55, and has assigned OMB control number 2060-0249. This proposed action does not impose a new information burden under PRA because this proposed action only proposes to update the State rules that are incorporated by reference into 40 CFR part 55, Appendix A.²

² OMB's approval of the ICR can be viewed at www.reginfo.gov.

List of Subjects in 40 CFR Part 55

Environmental protection, Administrative practice and procedure, Air pollution control, Carbon monoxide, Incorporation by reference, Intergovernmental relations, Lead, Nitrogen dioxide, Outer continental shelf, Ozone, Particulate matter, Permits, Reporting and recordkeeping requirements, Sulfur oxides, Volatile organic compounds.

Dated: December 5, 2023.
Jeaneanne Gettle,
Acting Regional Administrator, Region 4.

Part 55 of Chapter I, title 40 of the Code of Federal Regulations is proposed to be amended as follows:

PART 55—OUTER CONTINENTAL SHELF AIR REGULATIONS

1. The authority citation for part 55 continues to read as follows:

Authority: Section 328 of the Clean Air Act (42 U.S.C. 7401 et seq.) as amended by Public Law 101-549.

2. Amend § 55.14 by revising paragraph (e)(17)(i)(A) to read as follows:

§ 55.14 Requirements that apply to OCS sources located within 25 miles of States' seaward boundaries, by State.

* * * * *

(e) * * *

(17) * * *

(i) * * *

(A) State of North Carolina Air Pollution Control Requirements Applicable to OCS Sources, November 8, 2023

* * * * *

3. Appendix A to part 55 is amended by revising paragraph (a)(1) under the heading “North Carolina” to read as follows:

Appendix A to Part 55—Listing of State and Local Requirements Incorporated by Reference Into Part 55, by State

* * * * *

North Carolina:

(a) * * *

(1) The following State of North Carolina requirements are applicable to OCS sources, November 8, 2023, State of North Carolina—Department of Environmental Quality.

The following sections of subchapter 02D and 02Q:

15A NCAC Subchapter 02D—Air Pollution Control Requirements

Section .0100—Definitions and References

02D. 0101 Definitions (Effective 01/01/2018)

02D. 0103 Copies of Referenced Federal Regulations (Effective 09/01/2023)

02D. 0104 Incorporation by reference (Effective 01/01/2018)

02D. 0105 Mailing List (Effective 01/01/2018)

Section .0200—Air Pollution Sources

02D. 0201 Classification of air pollution sources (Effective 01/01/2018)

02D. 0202 Registration of air pollution sources (Effective 01/01/2018)

Section .0300—Air Pollution Emergencies

02D. 0301 Purpose (Effective 01/01/2018)

02D. 0302 Episode criteria (Effective 01/01/2018)

02D. 0303 Emission reduction plans (Effective 01/01/2018)

02D. 0304 Preplanned abatement program (Effective 01/01/2018)

02D. 0305 Emission reduction plan: Alert Level (Effective 01/01/2018)

02D. 0306 Emission reduction plan: Warning Level (Effective 01/01/2018)

02D. 0307 Emission reduction plan: Emergency Level (Effective 01/01/2018)

Section .0400—Ambient Air Quality Standards

02D. 0401 Purpose (Effective 01/01/2018)

02D. 0402 Sulfur oxides (Effective 01/01/2018)

02D. 0403 Total suspended particulates (Effective 11/01/2020)

02D. 0404 Carbon monoxide (Effective 01/01/2018)

02D. 0405 Ozone (Effective 01/01/2018)

02D. 0407 Nitrogen dioxide (Effective 01/01/2018)

02D. 0408 Lead (Effective 01/01/2018)

02D. 0409 PM10 particulate matter (Effective 01/01/2018)

02D. 0410 PM2.5 particulate matter (Effective 01/01/2018)

Section .0500—Emission Control Standards

02D. 0501 Compliance with emission control standards (Effective 09/01/2023)

02D. 0502 Purpose (Effective 11/01/2020)

02D. 0503 Particulates from fuel burning indirect heat exchangers (Effective 11/01/2023)

02D. 0504 Particulates from wood burning indirect heat exchangers (Effective 11/01/2020)

02D. 0506 Particulates from hot mix asphalt plants (Effective 11/01/2023)

02D. 0507 Particulates from chemical fertilizer manufacturing plants (Effective 11/01/2020)

02D. 0508 Particulates from pulp and paper mills (Effective 11/01/2020)

02D. 0509 Particulates from Mica or Feldspar processing plants (Effective 11/01/2020)

02D. 0510 Particulates from sand, gravel, or crushed stone operations (Effective 11/01/2020)

02D. 0511 Particulates from lightweight aggregate processes (Effective 11/01/2020)

02D. 0512 Particulates from wood products finishing plants (Effective 11/01/2020)

02D. 0513 Particulates from portland cement plants (Effective 11/01/2020)

02D. 0514 Particulates from ferrous jobbing foundries (Effective 11/01/2020)

02D. 0515 Particulates from miscellaneous industrial processes (Effective 11/01/2020)

02D. 0516 Sulfur dioxide emissions from combustion sources (Effective 6/1/2023)

02D. 0517 Emissions from plants producing sulfuric acid (Effective 11/01/2020)

02D. 0519 Control of nitrogen dioxide and nitrogen oxides emissions (Effective 11/01/2020)

02D. 0521 Control of visible emissions (Effective 11/01/2020)

02D. 0524 New Source Performance Standards (Effective 11/01/2020)

02D. 0527 Emissions from spodumene ore roasting (Effective 11/01/2020)

02D. 0528 Total reduced sulfur from kraft pulp mills (Effective 11/01/2020)

02D. 0529 Fluoride emissions from primary aluminum reduction plants (Effective 11/01/2020)

02D. 0530 Prevention of significant deterioration (Effective 10/01/2020)

02D. 0531 Sources in nonattainment areas (Effective 11/01/2020)

02D. 0532 Sources contributing to an ambient violation (Effective (11/01/2023)

02D. 0533 Stack height (Effective 11/01/2020)

02D. 0534 Fluoride emissions from phosphate fertilizer industry (Effective 11/01/2020)

02D. 0535 Excess emissions reporting and malfunctions (Effective 11/01/2020)

02D. 0537 Control of mercury emissions (Effective 11/01/2020)

02D. 0538 Control of ethylene oxide emissions (Effective 11/01/2020)

02D. 0539 Odor control of feed ingredient manufacturing plants (Effective 11/01/2020)

02D. 0540 Particulates from fugitive dust emission sources (Effective 09/01/2019)

02D. 0541 Control of emissions from abrasive blasting (Effective 11/01/2020)

02D. 0542 Control of particulate emissions from cotton ginning operations (Effective 11/01/2020)

02D. 0543 Best Available Retrofit Technology (Effective 11/01/2020)

02D. 0544 Prevention of Significant Deterioration Requirements for Greenhouse Gases (Effective 11/01/2020)

02D. 0546 Control of Emissions from Log Fumigation Operations (Effective 09/01/2023)

Section .0600—Monitoring: Recordkeeping: Reporting

02D. 0601 Purpose and scope (Effective 11/01/2019)

02D. 0602 Definitions (Effective 11/01/2019)

02D. 0604 Exceptions to monitoring and reporting requirements (Effective 11/01/2019)

02D. 0605 General recordkeeping and reporting requirements (Effective 09/01/2023)

02D. 0606 Sources covered by appendix P of 40 CFR part 51 (Effective 11/01/2019)

02D. 0607 Large wood and wood-fossil fuel combination units (Effective 11/01/2019)

02D. 0608 Other large coal or residual oil burners (Effective 10/01/2022)

02D. 0610 Federal monitoring requirements (Effective 11/01/2019)

02D. 0611 Monitoring emissions from other sources (Effective 11/01/2019)

02D. 0612 Alternative monitoring and reporting procedures (Effective 11/01/2019)

02D. 0613 Quality assurance program (Effective 11/01/2019)

02D. 0614 Compliance assurance monitoring (Effective 11/01/2023)

Section .0900—Volatile Organic Compounds

02D. 0901 Definitions (Effective 11/01/2020)

02D. 0902 Applicability (Effective 11/01/2020)

02D. 0903 Recordkeeping: reporting: monitoring (Effective 11/01/2020)

02D. 0906 Circumvention (Effective 11/01/2020)

02D. 0909 Compliance schedules for sources in ozone nonattainment and maintenance areas (Effective 11/01/2020)

02D. 0912 General provisions on test methods and procedures (Effective 11/01/2020)

02D. 0918 Can coating (Effective 11/01/2023)

02D. 0919 Coil coating (Effective 11/01/2020)

02D. 0922 Metal furniture coatings (Effective 11/01/2020)

02D. 0923 Surface coating of large appliances (Effective 11/01/2020)

02D. 0924 Magnet wire coating (Effective 11/01/2020)

02D. 0925 Petroleum liquid storage in fixed roof tanks (Effective 11/01/2020)

02D. 0926 Bulk gasoline plants (Effective 11/01/2023)

02D. 0927 Bulk gasoline terminals (Effective 11/01/2023)

02D. 0928 Gasoline service stations stage I (Effective 11/01/2023)

02D. 0930 Solvent metal cleaning (Effective 11/01/2020)

02D. 0931 Cutback asphalt (Effective 11/01/2020)

02D. 0932 Gasoline cargo tanks and vapor collection systems (Effective 11/01/2023)

02D. 0933 Petroleum liquid storage in external floating roof tanks (Effective 11/01/2020)

02D. 0935 Factory surface coating of flat wood paneling (Effective 11/01/2020)

02D. 0937 Manufacture of pneumatic rubber tires (Effective 11/01/2020)

02D. 0943 Synthetic organic chemical and polymer manufacturing (Effective 10/01/2022)

02D. 0944 Manufacture of polyethylene: polypropylene and polystyrene (Effective 10/01/2020)

02D. 0945 Petroleum dry cleaning (Effective 10/01/2020)

02D. 0947 Manufacture of synthesized pharmaceutical products (Effective 11/01/2020)

02D. 0948 VOC emissions from transfer operations (Effective 11/01/2020)

02D. 0949 Storage of miscellaneous volatile organic compounds (Effective 10/1/2022)

02D. 0951 RACT for sources of volatile organic compounds (Effective 11/01/2020)

02D. 0952 Petition for alternative controls for RACT (Effective 11/01/2020)

02D. 0955 Thread bonding manufacturing (Effective 11/01/2020)

02D. 0956 Glass Christmas ornament manufacturing (Effective 11/01/2020)

02D. 0957 Commercial bakeries (Effective 11/01/2020)

02D. 0958 Work practices for sources of volatile organic compounds (Effective 11/01/2020)

02D. 0959 Petition for superior alternative controls (Effective 11/01/2020)

02D. 0960 Cargo Tank Leak Tester Report (Effective 11/01/2023)

02D. 0961 Offset Lithographic Printing and Letterpress Printing (Effective 11/01/2023)

02D. 0962 Industrial Cleaning Solvents (Effective 11/01/2020)

02D. 0963 Fiberglass Boat Manufacturing Materials (Effective 11/01/2020)

02D. 0964 Miscellaneous Industrial Adhesives (Effective 11/01/2023)

02D. 0965 Flexible Package Printing (Effective 11/01/2020)

02D. 0966 Paper, Film and Foil Coatings (Effective 11/01/2020)

02D. 0967 Miscellaneous Metal and Plastic Parts Coatings (Effective 11/01/2020)

02D. 0968 Automobile and Light Duty Truck Assembly Coatings (Effective 11/01/2020)

Section .1000—Motor Vehicle Emission Control Standard

02D. 1001 Purpose (Effective 07/01/2018)

02D. 1002 Applicability (Effective 07/01/2018)

02D. 1003 Definitions (Effective 07/01/2018)

02D. 1005 On-Board Diagnostic Standards (Effective 07/01/2018)

02D. 1006 Sale and Service of Analyzers (Effective 07/01/2018)

02D. 1008 Heavy Duty Diesel Engine Requirements (Effective 07/01/2018)

Section .1100—Control of Toxic Air Pollutants

02D. 1101 Purpose (Effective 07/01/2018)

02D. 1102 Applicability (Effective 07/01/2018)

02D. 1103 Definition (Effective 07/01/2018)

02D. 1104 Toxic air pollutant guidelines (Effective 07/01/2018)

02D. 1105 Facility reporting, recordkeeping (Effective 07/01/2018)

02D. 1106 Determination of ambient air concentration (Effective 07/01/2018)

02D. 1107 Multiple facilities (Effective 07/01/2018)

02D. 1108 Multiple pollutants (Effective 07/01/2018)

02D. 1109 112(j) case-by-case maximum achievable control technology (Effective 07/01/2018)

02D. 1110 National Emission Standards for Hazardous Air Pollutants (Effective 07/01/2018)

02D. 1111 Maximum Achievable Control Technology (Effective 07/01/2018)

02D. 1112 112(g) case by case maximum achievable control technology (Effective 07/01/2018)

Section .1200—Control of Emissions From Incinerators

02D. 1201 Purpose and scope (Effective 07/01/2018)

02D. 1202 Definitions (Effective 07/01/2018)

02D. 1204 Sewage sludge and sludge incinerators (Effective 12/01/2021)

02D. 1206 Hospital, medical, and infectious waste incinerators (Effective 07/01/2018)

02D. 1208 Other incinerators (Effective 07/01/2018)

02D. 1210 Commercial and industrial solid waste incineration units (Effective 07/01/2018)

Section .1400—Nitrogen Oxides

02D. 1401 Definitions (Effective 05/01/2022)

02D. 1402 Applicability (Effective 05/01/2022)

02D. 1403 Compliance schedules (Effective 11/01/2023)

02D. 1404 Recordkeeping: Reporting: Monitoring: (Effective 10/01/2020)

02D. 1405 Circumvention (Effective 10/01/2020)

02D. 1407 Boilers and indirect-fired process heaters (Effective 10/01/2020)

02D. 1408 Stationary combustion turbines (Effective 10/01/2020)

02D. 1409 Stationary internal combustion engines (Effective 10/01/2020)

02D. 1410 Emissions averaging (Effective 10/01/2020)

02D. 1411 Seasonal fuel switching (Effective 10/01/2020)

02D. 1412 Petition for alternative limitations (Effective 10/01/2020)

02D. 1413 Sources not otherwise listed in this section (Effective 10/01/2020)

02D. 1414 Tune-up requirements (Effective 10/01/2020)

02D. 1415 Test methods and procedures (Effective 10/01/2020)

02D. 1418 New electric generating units, large boilers, and large I/C engines (Effective 10/01/2022)

02D. 1423 Large Internal Combustion Engines (Effective 10/01/2020)

02D. 1424 Large Non-Electric Generating Units (Effective 05/01/2022)

02D. 1425 NOX SIP Call Budget (Effective 05/01/2022)

Section .1900—Open Burning

02D. 1901 Open burning: Purpose: Scope (Effective 09/01/2019)

02D. 1902 Definitions (Effective 09/01/2019)

02D. 1903 Open burning without an air quality permit (Effective 09/01/2023)

02D. 1904 Air curtain incinerators (Effective 09/01/2023)

02D. 1905 Regional office locations (Effective 9/01/2023)

02D. 1906 Delegation to county governments (Effective 09/01/2019)

02D. 1907 Multiple violations arising from a single episode (Effective 09/01/2019)

Section .2000—Transportation Conformity

02D. 2001 Purpose, scope, and applicability (Effective 01/01/2018)

02D. 2002 Definitions (Effective 01/01/2018)

02D. 2003 Transportation conformity determination (Effective 01/01/2018)

02D. 2004 Determining transportation-related emissions (Effective 01/01/2018)

02D. 2005 Memorandum of agreement (Effective 01/01/2018)

Section .2100—Risk Management Program

02D. 2101 Applicability (Effective 11/01/2019)

02D. 2102 Definitions (Effective 11/01/2019)

02D. 2103 Requirements (Effective 11/01/2019)

02D. 2104 Implementation (Effective 11/01/2019)

Section .2200—Special Orders

02D. 2201 Purpose (Effective 01/01/2018)

02D. 2202 Definitions (Effective 01/01/2018)

02D. 2203 Public notice (Effective 01/01/2023)

02D. 2204 Final action on consent orders (Effective 01/01/2018)

02D. 2205 Notification of right to contest special orders issued without consent (Effective 01/01/2018)

Section .2300—Banking Emission Reduction Credits

02D. 2301 Purpose (Effective 11/01/2019)

02D. 2302 Definitions (Effective 11/01/2019)

02D. 2303 Applicability and eligibility (Effective 11/01/2019)

02D. 2304 Qualification of emission reduction credits (Effective 11/01/2019)

02D. 2305 Creating and banking emission reduction credits (Effective 11/01/2019)

02D. 2306 Duration of emission reduction credits (Effective 11/01/2019)

02D. 2307 Use of emission reduction credits (Effective 11/01/2019)

02D. 2308 Certificates and registry (Effective 11/01/2019)

02D. 2309 Transferring emission reduction credits (Effective 11/01/2019)

02D. 2310 Revocation and changes of emission reduction credits (Effective 11/01/2019)

02D. 2311 Monitoring (Effective 11/01/2019)

Section .2600—Source Testing

02D. 2601 Purpose and scope (Effective 11/01/2019)

02D. 2602 General provisions on test methods and procedures (Effective 11/01/2019)

02D. 2603 Testing protocol (Effective 11/01/2019)

02D. 2604 Number of test points (Effective 11/01/2019)

02D. 2605 Velocity and volume flow rate (Effective 11/01/2019)

02D. 2606 Molecular weight (Effective 11/01/2019)

02D. 2607 Determination of moisture content (Effective 11/01/2019)

02D. 2608 Number of runs and compliance determination (Effective 10/01/2022)

02D. 2609 Particulate testing methods (Effective 11/01/2019)

02D. 2610 Opacity (Effective 11/01/2019)

02D. 2611 Sulfur dioxide testing methods (Effective 11/01/2019)

02D. 2612 Nitrogen oxide testing methods (Effective 11/01/2019)

02D. 2613 Volatile organic compound testing methods (Effective 11/01/2019)

02D. 2614 Determination of VOC emission control system efficiency (Effective 11/01/2019)

02D. 2615 Determination of leak tightness and vapor leaks (Effective 10/01/2020)

02D. 2616 Fluorides (Effective 11/01/2019)

02D. 2617 Total reduced sulfur (Effective 11/01/2019)

02D. 2618 Mercury (Effective 11/01/2019)

02D. 2619 Arsenic, beryllium, cadmium, hexavalent chromium (Effective 11/01/2019)

02D. 2620 Dioxins and furans (Effective 11/01/2019)

02D. 2621 Determination of pollutant emissions using the f-factor (Effective 11/01/2019)

Subchapter 02Q—Air Quality Permits Procedures

Section .0100—General Provisions

02Q. 0101 Required air quality permits (Effective 4/1/18)

02Q. 0102 Activities exempted from permit requirements (Effective 11/01/2023)

02Q. 0103 Definitions (Effective 09/01/2022)

02Q. 0104 Where to obtain and file permit applications (Effective 09/01/2023)

02Q. 0105 Copies of referenced documents (Effective 09/01/2023)

02Q. 0106 Incorporation by reference (Effective 04/01/2018)

02Q. 0107 Confidential information (Effective 04/01/2018)

02Q. 0108 Delegation of authority (Effective 04/01/2018)

02Q. 0109 Compliance schedule for previously exempted activities (Effective 04/01/2018)

02Q. 0110 Retention of permit at permitted facility (Effective 04/01/2018)

02Q. 0111 Applicability determinations (Effective 04/01/2018)

02Q. 0112 Applications requiring professional engineer seal (Effective 04/01/2018)

02Q. 0113 Notification in areas without zoning (Effective 04/01/2018)

Section .0200—Permit Fees

02Q. 0201 Applicability (Effective 04/01/2018)

02Q. 0202 Definitions (Effective 04/01/2018)

02Q. 0203 Permit and application fees (Effective 11/18/2021)

02Q. 0204 Inflation adjustment (Effective 04/01/2018)

02Q. 0205 Other adjustments (Effective 04/01/2018)

02Q. 0206 Payment of fees (Effective 09/01/2023)

02Q. 0207 Annual emissions reporting (Effective 04/01/2018)

Section .0300—Construction and Operation Permits

02Q. 0301 Applicability (Effective 04/01/2018)

02Q. 0303 Definitions (Effective 04/01/2018)

02Q. 0304 Applications (Effective 09/01/2023)

02Q. 0305 Application submittal content (Effective 09/01/2023)

02Q. 0306 Permits requiring public participation (Effective 04/01/2018)

02Q. 0307 Public participation procedures (Effective 09/01/2023)

02Q. 0308 Final action on permit applications (Effective 04/01/2018)

02Q. 0309 Termination, modification, and revocation of permits (Effective 04/01/2018)

02Q. 0310 Permitting of numerous similar facilities (Effective 04/01/2018)

02Q. 0311 Permitting of facilities at multiple temporary sites (Effective 04/01/2018)

02Q. 0312 Application processing schedule (Effective 04/01/2018)

02Q. 0313 Expedited application processing schedule (Effective 04/01/2018)

02Q. 0314 General requirements for all permits (Effective 04/01/2018)

02Q. 0315 Synthetic minor facilities (Effective 04/01/2018)

02Q. 0316 Administrative permit amendments (Effective 04/01/2018)

02Q. 0317 Avoidance conditions (Effective 04/01/2018)

02Q. 0318 Changes Not Requiring Permit Revisions (Effective 04/01/2018)

Section .0400—Acid Rain Procedures

02Q. 0401 Purpose and applicability (Effective 04/01/2018)

02Q. 0402 Acid rain permitting procedures (Effective 04/01/2018)

Section .0500—Title V Procedures

02Q. 0501 Purpose of section and requirement for a permit (Effective 04/01/2018)

02Q. 0502 Applicability (Effective 04/01/2018)

02Q. 0503 Definitions (Effective 9/01/2022)

02Q. 0504 Option for obtaining construction and operation permit (Effective 9/01/2022)

02Q. 0505 Application submittal content (Effective 09/01/2023)

02Q. 0507 Application (Effective 09/01/2023)

02Q. 0508 Permit content (Effective 09/01/2023)

02Q. 0509 Permitting of numerous similar facilities (Effective 09/01/2022)

02Q. 0510 Permitting of facilities at multiple temporary sites (Effective 04/01/2018)

02Q. 0512 Permit shield and application shield (Effective 04/01/2018)

02Q. 0513 Permit renewal and expiration (Effective 04/01/2018)

02Q. 0514 Administrative permit amendments (Effective 09/01/2022)

02Q. 0515 Minor permit modifications (Effective 04/01/2018)

02Q. 0516 Significant permit modification (Effective 09/01/2022)

02Q. 0517 Reopening for cause (Effective 04/01/2018)

02Q. 0518 Final action (Effective 09/01/2022)

02Q. 0519 Termination, modification, revocation of permits (Effective 04/01/2018)

02Q. 0520 Certification by responsible official (Effective 04/01/2018)

02Q. 0521 Public participation (Effective 09/01/2022)

02Q. 0522 Review by EPA and affected States (Effective 09/01/2022)

02Q. 0523 Changes not requiring permit revisions (Effective 04/01/2018)

02Q. 0524 Ownership change (Effective 04/01/2018)

02Q. 0525 Application processing schedule (Effective 09/01/2022)

02Q. 0526 112(j) case-by-case MACT procedures (Effective 08/01/2022)

02Q. 0527 Expedited application processing schedule (Effective 04/01/2018)

02Q. 0528 112(g) case-by-case MACT procedures (Effective 04/01/2018)

Section .0700—Toxic Air Pollutant Procedures

02Q. 0701 Applicability (Effective 07/01/2018)

02Q. 0702 Exemptions (Effective 07/01/2018)

02Q. 0703 Definitions (Effective 07/01/2018)

02Q. 0704 New facilities (Effective 07/01/2018)

02Q. 0706 Modifications (Effective 11/01/2023)

02Q. 0707 Previously permitted facilities (Effective 07/01/2018)

02Q. 0708 Compliance schedule for previously unknown toxic air pollutant emissions (Effective 07/01/2018)

02Q. 0709 Demonstrations (Effective 07/01/2018)

02Q. 0710 Public notice and opportunity for public hearing (Effective 09/01/2023)

02Q. 0711 Emission rates requiring a permit (Effective 07/01/2018)

02Q. 0712 Calls by the director (Effective 07/01/2018)

Section .0800—Exclusionary Rules

02Q. 0801 Purpose and scope (Effective 04/01/2018)

02Q. 0802 Gasoline service stations and dispensing facilities (Effective 04/01/2018)

02Q. 0803 Coating, solvent cleaning, graphic arts operations (Effective 04/01/2018)

02Q. 0804 Dry cleaning facilities (Effective 04/01/2018)

02Q. 0805 Grain elevators (Effective 04/01/2018)

02Q. 0806 Cotton gins (Effective 04/01/2018)

02Q. 0807 Emergency generators (Effective 04/01/2018)

02Q. 0808 Peak shaving generators (Effective 04/01/2018)

02Q. 0810 Air curtain burners (Effective 04/01/2018)

Section .0900—Permit Exemptions

02Q. 0901 Purpose and scope (Effective 04/01/2018)

02Q. 0902 Portable crushers (Effective 04/01/2018)

02Q. 0903 Emergency generators (Effective 04/01/2018)

* * * * *

[FR Doc. 2023-27091 Filed 12-11-23; 8:45 am]

BILLING CODE 6560-50-P